OFFICE OF MANAGEMENT AND BUDGET

2010 Standards for Delineating Metropolitan and Micropolitan Statistical Areas

Correction

In notice document 2010-15605 beginning on page 37246 in the issue of Monday, June 28, 2010, make the following corrections:

1. On page 37250, in the second column, under Section 7. Divisions of Metropolitan Statistical Areas and New England City and Town Areas, in the last line of paragraph (a), “75” should read “.75”.

2. On page 37251, in the first column, under Section 10. Updating Schedule, in the third line of paragraph (b), “Metropolitan” should read “Micropolitan”.

3. On the same page, in the second column, in paragraph (f), in the first and second lines, “Metropolitan and Metropolitan Statistical Area” should read “Metropolitan and Micropolitan Statistical Area”.

[FR Doc. C1 2010-15605 Filed 7-2-10; 8:45 am]

BILLING CODE 1505-01-D